DEPARTMENT OF TRANSPORTATION

Office of the Secretary

Reports, Forms and Recordkeeping Requirements; Agency Information Collection Activity Under OMB Review

AGENCY: Office of the Secretary, DOT.

ACTION: Notice.

SUMMARY: In accordance with the Paperwork Reduction Act of 1995 (44 U.S.C. Chapter 3501, et seq.) this notice announces that the Information Collection Request (ICR) abstracted below has been forwarded to the Office of Management and Budget (OMB) for review and comment. The ICR describes the nature of the information collection and it's expected cost and burden. The Federal Register Notice with a 60-day comment period soliciting comments on the following collection of information was published on February 28, 2000 [65 FR 10590-10591].

DATE: Comments on this notice must be received on or before September 14, 2000.

FOR FURTHER INFORMATION CONTACT: Mr. Kenneth C. Edgell, DOT Drug Program Office, Office of the Secretary, S-1, DEPC, Room 10317, Department of Transportation, 400 7th Street, SW., Washington, DC 20590-0002. Telephone: (202) 366-3784.

SUPPLEMENTARY INFORMATION:

Office of the Secretary, Drug Program Office

Title: U.S. Department of Transportation (DOT) Breath Alcohol Testing Form.

OMB Control Number: 2105-0529.

Affected Public: Transportation industries.

Abstract: Under the Omnibus Transportation Employee Testing Act of 1991, DOT is required to implement an alcohol testing program in various transportation industries. Breath-alcohol technicians (BAT) must fill out testing form. The form includes the employee's name, the type of test taken, the date of the test, and the name of the employer. Custody and control is essential to the basis purpose of the alcohol testing program. Data on each test conducted, including test results, are necessary to document tests conducted and actions taken to ensure safety in the workplace.

Need: This specific requirement is elaborated in 49 CFR Part 40, Procedures for Transportation Workplace Drug and Alcohol Testing Programs.

Burden Estimate: The estimated burden is 1 hour annually. Send comments to the Office of Information and Regulatory Affairs, Office of Management and Budget, 725-17th Street, NW., Washington, DC 20503. Attention DOT Desk Officer.

Comments are invited on whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC on August 8, 2000.
Michael Robinson,
Information Resource Management, U.S. Department of Transportation.

[FR Doc. 00-20604 Filed 8-14-00; 8:45 am]

BILLING CODE 4910-62-P